DEPARTMENT OF TRANSPORTATION

[Docket No. DOT-OST-2023-0079]

Request for Information on Advanced Air Mobility; Extension of Comment Period

AGENCY: Office of the Secretary, DOT.

ACTION: Notice and request for information; extension of comment period.

SUMMARY: On May 17, 2023, the Department of Transportation (DOT) published a request for information (RFI) seeking public input on the development of a national strategy on Advanced Air Mobility as required by the Advanced Air Mobility Coordination and Leadership Act. The comment period for the RFI was scheduled to end on July 17, 2023. DOT received several requests to extend the comment period. DOT is extending the comment period for the RFI by 30 days.

DATES: The comment period to the RFI published on May 17, 2023 at 88 FR 31593, is extended from July 17, 2023, to August 16, 2023.

ADDRESSES: You may submit responses and other comments identified by “RFI Response: Advanced Air Mobility” and Docket No. DOT-OST-2023-0079, by any of the following methods:

• Federal Rulemaking Portal: https://www.regulations.gov. Follow the instructions for submitting comments.

• Email: AdvAirMobility_IWG@dot.gov. Include “RFI Response: Advanced Air Mobility” and Docket No. DOT-OST-2023-0079 in the subject line of the email.

• Mail/Hand Delivery/Courier: Docket Operations Office, U.S. Department of Transportation, 1200 New Jersey Ave. SE, West Building Room W12-140, Washington, DC 20590, between 9 a.m. and 5 p.m. Monday through Friday, except on Federal holidays. Include “RFI Response: Advanced Air Mobility” and Docket No. DOT-OST-2023-0079 on the cover page of the submission. Because paper mail in the Washington, DC, area is subject to delay, commenters are strongly encouraged to submit comments electronically.

Instructions: All submissions should include the docket number for this request for information. All comments received will be posted without change to https://www.regulations.gov. All comments, including attachments and other supporting material, will become part of the public record and subject to public disclosure. Comments generally will not be edited to remove any identifying or contact information. Any submissions received after the deadline may not be accepted or considered.

Confidential Business Information (CBI): CBI is commercial or financial information that is customarily and actually treated as private by its owner. Under the Freedom of Information Act (FOIA) (5 U.S.C. 552), CBI is exempt from public disclosure. If your comments in response to this RFI contain commercial or financial information that is customarily treated as private, that you actually treat as private, and that is relevant or responsive to this RFI, it is important that you clearly designate the submitted comments as CBI. Please mark each page of your submission containing CBI as “PROPIN” to indicate that it contains proprietary information. DOT will treat such marked submissions as confidential under FOIA and not place them in the public docket of this RFI. Submissions containing CBI should be sent to the name and physical or email address listed below.

FOR FURTHER INFORMATION CONTACT: Lauralyn Jean Remo Temprosa, Associate Director, Office of Aviation Analysis, Office of the Secretary, U.S. Department of Transportation, 1200 New Jersey Avenue SE, West Building Room W86-310, Washington, DC 20590. AdvAirMobility_IWG@dot.gov, (202) 366-5903.

SUPPLEMENTARY INFORMATION: On May 17, 2023, DOT published a RFI in the Federal Register seeking public comment on critical issues of importance in drafting a national advanced air mobility (AAM) strategy. (88 FR 31593) The RFI stated that the comment period would close on July 17, 2023. DOT received several requests to extend the comment period. The requestors state that comments to the RFI are due within two weeks of the Federal Aviation Administration's request for comments on the agency's review of the Civil Aviation Noise Policy, that having two complicated and technical Federal Register notices due nearly at the same time, during the middle of summer vacation, creates an undue hardship on the public, and that a more robust response would require an additional 60 days. DOT is granting commenters' request for an extension of the comment period to the RFI through August 16, 2023.

Issued in Washington, DC, on June 21, 2023.
Carlos Monje,
Under Secretary for Policy, Department of Transportation.

[FR Doc. 2023-13532 Filed 6-26-23; 8:45 am]

BILLING CODE 4910-9X-P